SECURITIES AND EXCHANGE COMMISSION

Sunshine Act Meeting

Notice is hereby given, pursuant to the provisions of the Government in the Sunshine Act, Public Law 94-409, that the Securities and Exchange Commission will hold an Open Meeting on September 8, 2008 at 10 a.m., in the Auditorium, Room L-002.

The subject matter of the Open Meeting will be:

The Commission will hear oral argument in an appeal by Brendan E. Murray from the decision of an administrative law judge. The law judge found that Murray, formerly a managing director of registered investment adviser Cornerstone Equity Advisers, Inc. (“Cornerstone”) and secretary to Cornerstone's advisory clients the Cornerstone Funds, Inc. (the “Funds”), willfully aided and abetted and caused Cornerstone to violate antifraud provisions of the Investment Advisers Act of 1940, and that Murray converted assets of the Funds in violation of the Investment Company Act of 1940. The law judge barred Murray from associating with any investment adviser and from working for any registered investment company, assessed a civil money penalty, imposed a cease-and-desist order, and ordered disgorgement plus prejudgment interest.

Among the issues likely to be argued are whether Murray is liable as charged, whether Murray acted with scienter, and whether there is merit to Murray's contention that he was denied a fair hearing. The parties may also address whether and to what extent Murray should be sanctioned if he is found to have committed the alleged violations.

At times, changes in Commission priorities require alterations in the scheduling of meeting items.

For further information and to ascertain what, if any, matters have been added, deleted or postponed, please contact:

The Office of the Secretary at (202) 551-5400.

August 29, 2008.
Florence E. Harmon,
Acting Secretary.

[FR Doc. E8-20534 Filed 9-3-08; 8:45 am]

BILLING CODE 8010-01-P